DEPARTMENT OF HEALTH AND HUMAN SERVICES

Centers for Disease Control and Prevention

[60 Day-03-38]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Reporting Requirements for Assessment of the Well-Integrated Screening and Evaluation for Women Across the Nation (WISEWOMAN)—New—National Center for Chronic Disease Prevention and Health Promotion (NCCDPHP), Centers for Disease Control and Prevention (CDC).

Background

The WISEWOMAN program, which focuses on reducing cardiovascular disease risk factors among at-risk women, was in response to the Secretary of Health and Human Services' Continuous Improvement Initiative, asking for the development of programs that examine ways in which service delivery can be improved for select populations. Title XV of the Public Health Service Act, Section 1509 originally authorized the secretary of the Department of Health and Human Services to establish up to three demonstration projects. Through appropriations language, the CDC WISEWOMAN program is now allowed to fund up to 15 projects. Currently, WISEWOMAN funds 12 demonstration projects, which at full implementation are expected to screen approximately 30,000 women annually for cardiovascular disease risk factors. The program targets women already participating in the National Breast and Cervical Cancer Early Detection Program (NBCCEDP) and provides screening for select cardiovascular disease risk factors (including elevated cholesterol, hypertension, and abnormal blood glucose levels), lifestyle interventions, and medical referrals as required in an effort to improve cardiovascular health among participants.

The CDC proposes to collect and analyze baseline and follow-up data (12 months post enrollment) for all participants. These data, called the minimum data elements (MDE's), includes demographic and risk factor information about women served in each program and information concerning the number and type of intervention sessions attended. The MDE data allows for an assessment of how effective WISEWOMAN is at reducing the burden of cardiovascular disease risk factors among participants. The CDC also proposes to collect programmatic data for all WISEWOMAN programs. Programmatic data includes information related to grantee management, public education and outreach, professional education, service delivery, cost, and an assessment of how well each program is meeting their stated objectives.

All required data will be submitted electronically to RTI International, the contractor hired by CDC to conduct the WISEWOMAN evaluation. MDE and cost data will be submitted to RTI twice a year, October 15 and April 15. October 15 reporting will cover all MDE's and costs for activities that took place between January 1 and June 30, and the April 15 submission will cover MDE's and costs for activities occurring between July 1 and December 31. Quarterly reports containing programmatic data will be due to RTI on January 31 (reflecting October 1-December 31 program activities), April 30 (reflecting January 1-March 31), July 31 (reflecting April 1-June 30), and October 31 (reflecting July 1-September 30). All reports will be due in a pre-determined format provided by CDC and the contractor. The contractor will provide training as requested to WISEWOMAN personnel at each location concerning data collection and submission.

All information collected as part of the WISEWOMAN evaluation will be used to assess the costs, effectiveness, and cost-effectiveness of WISEWOMAN in reducing cardiovascular disease risk factors, for obtaining more complete health data among vulnerable populations, promoting public education of disease incidence and risk-factors, improving the availability of screening and diagnostic services for under-served women, ensuring the quality of services provided to women, and developing strategies for improved interventions. Because certain demographic data are already collected as part of NBCCEDP, the additional burden on grantees will be modest. Once the infrastructure is established to capture the additional WISEWOMAN data, the response burden is expected to be reduced even further. There are no costs to respondents.

Form | Number of respondents | Number of responses per respondent | Average burden per response (in hours) | Total burden (in hours)
Screening MDE Report | 12 | 2 | 16 | 384
Intervention MDE Report | 12 | 2 | 8 | 192
Cost Report | 12 | 2 | 16 | 384
Quarterly Report | 12 | 4 | 16 | 768
Total |  |  |  | 1728

Dated: January 21, 2003.
Thomas Bartenfeld,
Acting Associate Director for Policy, Planning and Evaluation Centers for Disease Control and Prevention.

[FR Doc. 03-1974 Filed 1-28-03; 8:45 am]

BILLING CODE 4163-18-P